DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of June 15, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Madison County, Georgia and Incorporated Areas
Docket No.: FEMA-B-2110
Madison County Unincorporated Areas | Madison County Government Courthouse, Building and Zoning Office, 91 Albany Avenue, Danielsville, GA 30633.
Oglethorpe County, Georgia and Incorporated Areas
Docket No.: FEMA-B-2110
City of Maxeys | Maxeys City Hall, 369 South Main Street, Stephens, GA 30667.
Unincorporated Areas of Oglethorpe County | Oglethorpe County Board of Commissioners Office, 105 Union Point Road, Lexington, GA 30648.
Hendricks County Indiana and Incorporated Areas
Docket No.: FEMA-B-2104
Town of Avon | Town Hall Offices, 6570 East US Highway 36, Avon, IN 46123.
Unincorporated Areas of Hendricks County | Hendricks County Government Center, 355 South Washington Street, Danville, IN 46122.
Monona County, Iowa and Incorporated Areas
Docket No.: FEMA-B-2112
City of Blencoe | City Hall, 413 Main Street, Blencoe, IA 51523.
City of Castana | City Hall, 103 3rd Street, Castana, IA 51010.
City of Mapleton | City Hall, 513 Main Street, Mapleton, IA 51034.
City of Moorhead | City Hall, 100 Oak Street, Moorhead, IA 51558.
City of Onawa | City Hall, 914 Diamond Street, Onawa, IA 51040.
City of Rodney | City Hall, 219 Main Street, Rodney, IA 51051.
City of Soldier | City Hall, 108 Oak Street, Soldier, IA 51572.
City of Turin | City Hall, 302 Highway 175, Turin, IA 51040.
City of Ute | City Hall, 130 East Main Street, Ute, IA 51060.
City of Whiting | City Hall, 605 Whittier Street, Whiting, IA 51063.
Omaha Tribe of Nebraska | Omaha Tribe of Nebraska Administration Building, 101 Main Street, Macy, NE 68039.
Unincorporated Areas of Monona County | Monona County Courthouse, 610 Iowa Avenue, Onawa, IA 51040.
Ellis County, Kansas and Incorporated Areas
Docket No.: FEMA-B-2068
City of Ellis | Municipal Offices, 815 Jefferson Street, Ellis, KS 67637.
City of Hays | City Hall, 1507 Main Street, Hays, KS 67601.
City of Schoenchen | Ellis County Administrative Center, 718 Main Street, Hays, KS 67601.
City of Victoria | City Hall, 1005 4th Street, Victoria, KS 67671.
Unincorporated Areas of Ellis County | Ellis County Administrative Center, 718 Main Street, Hays, KS 67601.
Lyon County, Kansas and Incorporated Areas
Docket No.: FEMA-B-2068
City of Allen | City Hall, 4 West 5th Street, Allen, KS 66833.
City of Americus | City Hall, 604 Main Street, Americus, KS 66835.
City of Emporia | City Hall, 111 East 6th Avenue, Emporia, KS 66801.
City of Neosho Rapids | City Hall, 238 North Main Street, Neosho Rapids, KS 66864.
City of Olpe | City Hall, 102 Westphalia Street, Olpe, KS 66865.
City of Reading | City Hall, 613 1st Street, Reading, KS 66868.
Unincorporated Areas of Lyon County | Lyon County Courthouse, 430 Commercial Street, Emporia, KS 66801.
Arenac County, Michigan (All Jurisdictions)
Docket No.: FEMA-B-2075
City of Au Gres | City Hall, 124 West Huron Road, Au Gres, MI 48703.
Township of Arenac | Arenac Township Hall, 2596 Arenac State Road, Standish, MI 48658.
Township of Au Gres | Township Hall, 1865 South Swenson Road, Au Gres, MI 48703.
Township of Sims | Sims Township Office, 4489 East Huron Road, Au Gres, MI 48703.
Township of Standish | Township Hall, 4997 Arenac State Road, Standish, MI 48658.
Township of Whitney | Whitney Township Hall, 1515 North Huron Road, Tawas City, MI 48763.
Iosco County, Michigan (All Jurisdictions)
Docket No.: FEMA-B-2075
City of East Tawas | East Tawas Community Center, 760 Newman Street, East Tawas, MI 48730.
City of Tawas City | City Hall, 550 West Lake Street, Tawas City, MI 48763.
Township of Alabaster | Alabaster Township Hall, 1716 South U.S. 23, Tawas City, MI 48763.
Township of Au Sable | Township Hall, 4420 North U.S. 23, Au Sable, MI 48750.
Township of Baldwin | Baldwin Township Hall, 1119 Monument Road, Tawas City, MI 48763.
Township of Oscoda | Iosco County Public Safety Building, 1808 North U.S. 23, Oscoda, MI 48750.
Monmouth County, New Jersey (All Jurisdictions)
Docket No.: FEMA-B-1471
Borough of Deal | Borough Hall, 190 Norwood Avenue, Deal, NJ 07723.
Borough of Rumson | Municipal Building, Zoning Department, 80 East River Road, Rumson, NJ 07760.
Township of Neptune | Township Hall, Construction Department, 25 Neptune Boulevard, Neptune, NJ 07753.
Craven County, North Carolina and Incorporated Areas
Docket No.: FEMA-B-1718
Unincorporated Areas of Craven County | Craven County GIS and Mapping Department, 226 Pollock Street, New Bern, NC 28560.
Hyde County, North Carolina and Incorporated Areas
Docket No.: FEMA-B-1718; FEMA B-2072
Unincorporated Areas of Hyde County | Hyde County Inspections Department, 30 Oyster Creek Road, Swan Quarter, NC 27885.
Jones County, North Carolina and Incorporated Areas
Docket No.: FEMA-B-1718; FEMA B-2077
Town of Pollocksville | Town Hall, 314 Main Street, Pollocksville, NC 28573.
Unincorporated Areas of Jones County | Jones County Government Office, 418 Highway 58 North, Trenton, NC 28585.
Tyrrell County, North Carolina and Incorporated Areas
Docket No.: FEMA-B-1718; FEMA B-2077
Town of Columbia | Municipal Building, 103 Main Street, Columbia, NC 27925.
Unincorporated Areas of Tyrrell County | Tyrrell County Planning Department, 108 South Water Street, Columbia, NC 27925.

[FR Doc. 2022-07297 Filed 4-5-22; 8:45 am]

BILLING CODE 9110-12-P